DEPARTMENT OF ENERGY

Federal Energy Regulatory Commission

[Docket Nos. RP00-241-000 and RP00-241-006]

Public Utilities Commission of the State of California v. El Paso Natural Gas Company, El Paso Merchant Energy Gas, L.P. and El Paso Merchant Energy Company; Notice Releasing Protected Materials

December 3, 2002.

At the oral argument held on December 2, 2002, the Commission voted to make public the attached five pages that are a part of documents that were filed under protective seal in the above-docketed proceeding. The following pages were made public:

Exhibit PUC—36, pages 14 and 15

Exhibit PUC-37, page 13, one paragraph from that page

Exhibit PG&E-54, pages 47 and 48

Magalie R. Salas,
Secretary.

[FR Doc. 02-31091 Filed 12-6-02; 8:45 am]

BILLING CODE 6717-01-P